DEPARTMENT OF COMMERCE

National Oceanic and Atmospheric Administration

[RTID 0648-XB864]

Marine Mammals; File No. 26288

AGENCY: National Marine Fisheries Service (NMFS), National Oceanic and Atmospheric Administration (NOAA), Commerce.

ACTION: Notice; receipt of application.

SUMMARY: Notice is hereby given that Deborah Giles, Ph.D., Wild Orca, 6523 California Ave. SW, #172, Seattle, Washington 98136, has applied in due form for a permit to conduct research on marine mammals.

DATES: Written, telefaxed, or email comments must be received on or before April 8, 2022.

ADDRESSES: The application and related documents are available for review by selecting “Records Open for Public Comment” from the “Features” box on the Applications and Permits for Protected Species (APPS) home page, https://apps.nmfs.noaa.gov, and then selecting File No. 26288 from the list of available applications. These documents are also available upon written request via email to NMFS.Pr1Comments@noaa.gov.

Written comments on this application should be submitted via email to NMFS.Pr1Comments@noaa.gov. Please include File No. 26288 in the subject line of the email comment.

Those individuals requesting a public hearing should submit a written request via email to NMFS.Pr1Comments@noaa.gov. The request should set forth the specific reasons why a hearing on this application would be appropriate.

FOR FURTHER INFORMATION CONTACT: Courtney Smith, Ph.D., or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The proposed permit would authorize vessel surveys for continuing a long-term assessment of the health and ecology of cetaceans, with particular focus on the ESA-listed Southern Resident killer whales, and sympatric ecotypes of killer whales (Orcinus orca), with the primary goal of obtaining health information pertinent to their management and conservation. The core study area is the Salish Sea, covering the eastern inlet of the Strait of Juan de Fuca, Puget Sound to the south, the U.S. boundary to the north, and the mainland to the east, but includes the outer coast from Washington State to Monterey California. Research methods primarily involve fecal sampling, photographic identification, and behavioral observations, but depending on the conditions and behavior of the whales we may also use other non-invasive or benign techniques such as prey and skin sampling in the trail of whales, unmanned aircraft remote observations of fecal patches and whales, and eDNA water sampling. Parts from unidentified ESA-listed fish (e.g., salmonid) species may also be collected during predation events. Secondary target species that may be approached include: Fin (Balaenoptera physalus), gray (Eschrichtius robustus), humpback (Megaptera novaeangliae), and minke (Balaenoptera acutorostrata) whales. Up to 21 additional cetacean species may be taken if opportunistically encountered (see permit take table). Up to 100 takes whales of each killer whale stock and up to 400 individuals of each of the other species may be taken annually. Five pinniped species may be unintentionally harassed during research activities. The permit would be for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 3, 2022.
Julia M. Harrison,
Chief, Permits and Conservation Division, Office of Protected Resources, National Marine Fisheries Service.

[FR Doc. 2022-04927 Filed 3-8-22; 8:45 am]

BILLING CODE 3510-22-P